DEPARTMENT OF COMMERCE

International Trade Administration

[C-351-829]

Certain Hot-Rolled Flat-Rolled Carbon-Quality Steel Products from Brazil: Extension of Time Limit for Preliminary Results of Countervailing Duty Administrative Review

AGENCY: Import Administration, International Trade Administration, Department of Commerce.

FOR FURTHER INFORMATION CONTACT: Jacqueline Arrowsmith or Myrna Lobo, AD/CVD Operations, Office 6, Import Administration, International Trade Administration, U.S. Department of Commerce, 14th Street and Constitution Avenue, NW, Washington DC 20230; telephone: (202) (202) 482-5255 and (202) 482-2371, respectively.

SUPPLEMENTARY INFORMATION:

Background

On September 17, 2004, the Department of Commerce (the Department) published the countervailing duty order on certain hot-rolled flat-rolled carbon-quality steel products from Brazil. See Agreement Suspending the Countervailing Duty Investigation on Hot-Rolled Flat-Rolled Carbon-Quality Steel From Brazil; Termination of Suspension Agreement and Notice of Countervailing Duty Order. (69 FR 56040, September 17, 2004). On October 26, 2009, in response to a timely request from Usinas Siderúrgicas de Minas Gerais (Usiminas), and its subsidiary, Companhia Siderúrgica Paulista (Cosipa), the Department initiated an administrative review of the countervailing duty order on certain hot-rolled flat-rolled carbon-quality steel products from Brazil. See Initiation of Antidumping and Countervailing Duty Administrative Reviews, 74 FR 54956 (October 26, 2009). This administrative review covers the period January 1, 2008 through December 31, 2008.

Extension of Time Limit for Preliminary Results

Pursuant to section 751(a)(3)(A) of the Tariff Act of 1930, as amended (the Act), and 19 CFR 351.213(h)(1), the Department shall issue preliminary results in an administrative review of a countervailing duty order within 245 days after the last day of the anniversary month of the order for which the administrative review was requested. However, if the Department determines that it is not practicable to complete the review within the aforementioned specified time limits, section 751(a)(3)(A) of the Act and 19 CFR 351.213(h)(2) allow the Department to extend the 245-day period to 365 days.

The preliminary results of this administrative review were originally due on June 2, 2010. On February 12, 2010, the Department exercised its discretion to toll deadlines because of the closure of the Federal Government due to snowstorms. Thus, all deadlines in this segment of the proceeding were extended by seven days. See Memorandum to the Record from Ronald Lorentzen, Deputy Assistant Secretary for Import Administration, regarding “Tolling of Administrative Deadlines As a Result of the Government Closure During the Recent Snowstorm,” dated February 12, 2010. As a result, the deadline for the preliminary results was tolled to June 9, 2010.

Pursuant to section 751(a)(3)(A) of the Act and 19 CFR 351.213(h)(2), we determine that it is not practicable to complete the results of this review within the original time limit. This is the first administrative review of this countervailing duty order, which was issued in 2004. The order was issued five years after the completion of the countervailing duty investigation, and after the termination of the agreement that suspended the investigation. See Suspension of Countervailing Duty Investigation: Certain Hot-Rolled Flat-Rolled Carbon-Quality Steel Products from Brazil, 64 FR 38797 (July 19, 1999); see also Final Affirmative Countervailing Duty Determination: Certain Hot-Rolled Flat-Rolled Carbon-Quality Steel Products from Brazil, 64 FR 38742 (July 19, 1999). Because this administrative review is the first opportunity in more than ten years for the Department to examine assistance provided by the Government of Brazil to producers of certain hot-rolled flat-rolled carbon-quality steel products, the Department needs additional time to analyze the questionnaire responses and issue supplemental questionnaires. In accordance with section 751(a)(3)(A) of the Act, the Department has decided to extend the time limit for the preliminary results from 245 days to 365 days; the preliminary results will now be due no later than October 7, 2010. Unless extended, the final results continue to be due 120 days after the publication of the preliminary results, pursuant to section 751(a)(3)(A) of the Act and 19 CFR 351.213(h)(1).

This notice is issued and published in accordance with sections 751(a)(3)(A) and 777(i)(1) of the Act.

Dated: June 1, 2010.
John M. Andersen.
Acting Deputy Assistant Secretary for Antidumping and Countervailing Duty Operations.

[FR Doc. 2010-13584 Filed 6-4-10; 8:45 am]

BILLING CODE 3510-DS-S